DEPARTMENT OF ENERGY

Federal Energy Regulatory Commission

[Docket No. AD24-10-000]

Reliability Technical Conference; Notice of Reliability Technical Conference

Take notice that the Federal Energy Regulatory Commission (Commission) will convene its annual Commissioner-led Reliability Technical Conference in the above-referenced proceeding on Wednesday, October 16, 2024, from approximately 10:00 a.m. to 12:00 p.m. Eastern time. The conference will be held in-person at the Commission's headquarters at 888 First Street NE, Washington, DC 20426 in the Commission Meeting Room. The meeting will be available to view online.

The purpose of this conference is to discuss policy issues related to the reliability and security of the Bulk-Power System.

The conference will be open for the public to attend, and there is no fee for attendance. Supplemental notices will be issued prior to the conference with further details regarding the agenda. Information on this technical conference will also be posted on the Calendar of Events on the Commission's website, www.ferc.gov, prior to the event.

The conference will also be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations.

For more information about this conference, please contact Michael Gildea at Michael.Gildea@ferc.gov or (202) 502-8420. For information related to logistics, please contact Sarah McKinley at Sarah.Mckinley@ferc.gov or (202) 502-8368.

Dated: July 9, 2024.
Debbie-Anne A. Reese,
Acting Secretary.

[FR Doc. 2024-15521 Filed 7-15-24; 8:45 am]

BILLING CODE 6717-01-P